DEPARTMENT OF STATE

22 CFR Part 171

[Public Notice: 9405]

RIN 1400-AD86

Privacy Act; STATE-09, Records Maintained by the Office of Civil Rights

AGENCY: Department of State.

ACTION: Final rule.

SUMMARY: The Department of State is issuing a final rule to amend its Privacy Act regulation exempting portions of a system of records from certain provisions of the Privacy Act of 1974. Certain portions of the Records Maintained by the Office of Civil Rights, STATE-09, contain investigatory material for law enforcement purposes, and testing or examination material.

DATES: This final rule is effective January 20, 2016.

FOR FURTHER INFORMATION CONTACT: John Hackett, Director; Office of Information Programs and Services, A/GIS/IPS; Department of State, SA-2; 515 22nd Street NW., Washington, DC 20522-8001, or at Privacy@state.gov.

SUPPLEMENTARY INFORMATION: The system, Records Maintained by the Office of Civil Rights, designated as STATE-09, supports the Office of Civil Rights, Department of State, in the investigation, processing, and resolution of informal and formal complaints of discrimination filed against the Department in accordance with 29 CFR part 1614 and the Department's internal procedures for addressing Equal Employment Opportunity (EEO) complaints; in the investigation, processing, and resolution of complaints of discrimination under 42 U.S.C. 2000d; and complaints under 20 U.S.C. 1681, 29 U.S.C. 794 and 794d, 42 U.S.C. 6101, 29 U.S.C. 621, and 36 CFR chapter XI.

For additional background, see the notice of proposed rulemaking and the system of records notice published on July 14, 2015 (80 FR 40951 and 80 FR 41137, respectively). The Department received no public comment on these documents.

List of Subjects in 22 CFR Part 171

Privacy.

For the reasons stated in the preamble, 22 CFR part 171 is amended as follows:

PART 171—[AMENDED]

1. The authority citation for part 171 continues to read as follows:

Authority: 5 U.S.C. 552, 552a; 22 U.S.C. 2651a; Public Law 95-521, 92 Stat. 1824, as amended; E.O. 13526, 75 FR 707; E.O. 12600, 52 FR 23781, 3 CFR, 1987 Comp., p. 235.

§ 171.36 [Amended]

2. Section 171.36 is amended by adding an entry, in alphabetical order, for “Records Maintained by the Office of Civil Rights, STATE-09” to the lists in paragraphs (b)(5) and (6).

Joyce A. Barr,
Assistant Secretary for Administration, U.S. Department of State.

[FR Doc. 2016-00557 Filed 1-19-16; 8:45 am]

BILLING CODE 4710-10-P